DEPARTMENT OF ENERGY

Federal Energy Regulatory Commission

[Project No. 2520-076]

Great Lakes Hydro America, LLC; Notice of Technical Meeting

a. Date and Time of Meeting: November 28, 2018 at 10:00 a.m. Eastern Standard Time.

b. Place: Telephone conference.

c. FERC Contact: Adam Peer at adam.peer@ferc.gov, or (202) 502-8449.

d. Purpose of Meeting: Commission Staff is hosting a technical meeting to discuss Endangered Species Act consultation as it relates to relicensing the Mattaceunk Hydroelectric Project.

e. A summary of the meeting will be prepared and filed in the Commission's public file for the project.

f. All local, state, and federal agencies, Indian tribes, and other interested parties are invited to participate by phone. Please contact Adam Peer at adam.peer@ferc.gov, or (202) 502-8449 by November 26, 2018, to RSVP and to receive specific instructions on how to participate.

Dated: November 9, 2018.
Nathaniel J. Davis, Sr.,
Deputy Secretary.

[FR Doc. 2018-25075 Filed 11-15-18; 8:45 am]

BILLING CODE 6717-01-P